DEPARTMENT OF COMMERCE

International Trade Administration

[C-469-818]

Notice of Commencement of a Compliance Proceeding Pursuant to Section 129 of the Uruguay Round Agreements Act

AGENCY: Enforcement and Compliance, International Trade Administration, Department of Commerce.

SUMMARY: The U.S. Department of Commerce (Commerce) is commencing a proceeding to gather information, analyze record evidence, and consider the determinations which would be necessary to bring its measures into conformity with the recommendations and rulings of the Dispute Settlement Body (DSB) of the World Trade Organization (WTO) in United States—Antidumping and Countervailing Duties on Ripe Olives from Spain (WTO/DS577). This dispute concerns the final determination issued in the countervailing duty (CVD) investigation of ripe olives from Spain.

DATES: Applicable July 11, 2022.

FOR FURTHER INFORMATION CONTACT: Mary Kolberg or Dusten Hom, AD/CVD Operations, Enforcement and Compliance, International Trade Administration, U.S. Department of Commerce, 1401 Constitution Avenue NW, Washington, DC 20230; telephone: (202) 482-1785 or (202) 482-5075, respectively.

SUPPLEMENTARY INFORMATION:

Background

On January 24, 2022, the United States informed the DSB that the United States intended to implement the DSB's recommendations and rulings in WTO/DS577. The CVD investigation at issue is:

Case No. | Full title | FR cite/publication date
C-469-818 | Ripe Olives from Spain: Amended Final Affirmative Countervailing Duty Determination and Countervailing Duty Order | 83 FR 37469 (August 1, 2018).

Commencement of Section 129 Proceeding

In accordance with section 129(b)(1) of the Uruguay Round Agreements Act (URAA), 19 U.S.C. 3538, Commerce consulted with the Office of the United States Trade Representative, and on July 6, 2022, pursuant to those consultations, opened a segment in the CVD proceeding at issue to commence administrative action to comply with the DSB's recommendations and rulings. The segment will consist of a separate administrative record with its own administrative protective order. In accordance with 19 CFR 351.305(b), interested parties may request access to business proprietary information in this segment of the proceeding. For this Section 129 segment, we may request additional information and we may conduct verification of such information. Consistent with section 129(d) of the URAA, Commerce intends to make a preliminary determination in this Section 129 segment, intends to provide interested parties with an opportunity to provide written comments on the preliminary determination, and may hold a hearing.

Filing Requirements & Letter of Appearance

In accordance with Commerce's regulations, all submissions to Commerce must be filed electronically using Enforcement and Compliance's Antidumping and Countervailing Duty Centralized Electronic Service System (ACCESS). ACCESS is available to registered users at https://access.trade.gov. An electronically filed document must be received successfully in its entirety by the time and date it is due. Documents exempted from the electronic submission requirements must be filed manually (i.e., in paper form) with Enforcement and Compliance's APO/Dockets Unit, Room 18002, U.S. Department of Commerce, 1401 Constitution Avenue NW, Washington, DC 20230, and stamped with the date and time of receipt by the applicable deadlines.¹ Note that Commerce has temporarily modified certain of its requirements for serving documents containing business proprietary information until further notice.²

¹ See generally 19 CFR 351.303 (for general filing requirements.).

² See Temporary Rule Modifying AD/CVD Service Requirements Due to COVID-19; Extension of Effective Period, 85 FR 41363 (July 10, 2020).

Pursuant to 19 CFR 351.103(d)(1), to be included on the public service list for the Section 129 segment of the aforementioned proceeding, all interested parties, including parties that were part of the public service list in the underlying investigation and any parties otherwise notified of Commerce's commencement of this Section 129 proceeding, must file a letter of appearance. The letter of appearance must be filed separately from any other document (with the exception of an application for administrative protective order (APO) access; parties applying for and granted APO access would automatically be on the public service list). Parties wishing to enter an appearance or submit information with regard to this proceeding must upload their filing(s) to the relevant case number. Additionally, for each submission made in ACCESS, parties must select “S 129—SEC 129” as the segment and enter “DS577” in the segment specific information field.

Submission of Factual Information

Except as requested or allowed by Commerce, the administrative record is closed for submitting new factual information. Specifically, Commerce will be seeking new factual information in addition to information already on the record of the investigation, and will provide interested parties an opportunity to submit factual information to rebut, clarify, or correct such factual information. Commerce will establish a timeline for the submission of this factual information at a later date.

Factual information is defined in 19 CFR 351.102(b)(21) as: (i) Evidence submitted in response to questionnaires; (ii) evidence submitted in support of allegations; (iii) publicly available information to value factors under 19 CFR 351.408(c) or to measure the adequacy of remuneration under 19 CFR 351.511(a)(2); (iv) evidence placed on the record by Commerce; and (v) evidence other than factual information described in (i)-(iv). The regulation requires any party, when submitting factual information, to specify under which subsection of 19 CFR 351.102(b)(21) the information is being submitted and, if the information is submitted to rebut, clarify, or correct factual information already on the record, to provide an explanation identifying the information already on the record that the factual information seeks to rebut, clarify, or correct.

Extension of Time Limits Regulation

Parties may request an extension of time limits before the expiration of a time limit. In general, an extension request will be considered untimely if it is filed after the expiration of the time limit.³ For submissions that are due from multiple parties simultaneously, an extension request will be considered untimely if it is filed after 10:00 a.m. Eastern Time on the due date. Under certain circumstances, we may elect to specify a different time limit by which extension requests will be considered untimely for submissions which are due from multiple parties simultaneously. In such a case, we will inform parties in the letter or memorandum setting forth the deadline (including a specified time) by which extension requests must be filed to be considered timely. An extension request must be made in a separate, stand-alone submission; under limited circumstances we will grant untimely-field requests for an extension of time limits.⁴

³ See 19 CFR 351.302(b).

⁴ See Extension of Time Limits; Final Rule, 78 FR 57790 (September 20, 2013), available at https://www.gpo.gov/fdsys/pkg/FR-2013-09-20/html/2013-22853.htm.

Certification Requirements

Any party submitting factual information in an antidumping or CVD proceeding must certify to the accuracy and completeness of that information.⁵ Parties must use the certification formats provided in 19 CFR 351.303(g).⁶ Commerce intends to reject factual submissions if the submitting party does not comply with the applicable revised certification requirements.

⁵ See section 782(b) of the Act.

⁶ See Certification of Factual Information to Import Administration During Antidumping and Countervailing Duty Proceedings, 78 FR 42678 (July 17, 2013) (Final Rule); see also frequently asked questions regarding the Final Rule, available at https://enforcement.trade.gov/tlei/notices/factual_info_final_rule_FAQ_07172013.pdf.

Notification to Interested Parties

Interested parties may submit applications for disclosure under APO in accordance with 19 CFR 351.305. Parties wishing to participate in this proceeding should ensure that they meet the requirements of these procedures at 19 CFR 351.103(d) and enter their appearance. Representatives of interested parties may submit applications for disclosure under APO in accordance with 19 CFR 351.305.

This notice is published in accordance with section 129(b)(1) of the URAA.

Dated: July 6, 2022.
Ryan Majerus,
Deputy Assistant Secretary for Policy and Negotiations.

[FR Doc. 2022-14705 Filed 7-8-22; 8:45 am]

BILLING CODE 3510-DS-P